DEPARTMENT OF THE INTERIOR

Fish and Wildlife Service

[FWS-R6-R-2008-N0059; 60138-1265-6CCP-S3]

Draft Comprehensive Conservation Plan for Nine Wetland Management Districts, North Dakota

AGENCY: Fish and Wildlife Service, Interior.

ACTION: Notice of availability.

SUMMARY: We, the U.S. Fish and Wildlife Service (Service) announce that our Draft Comprehensive Conservation Plan (CCP) and Environmental Assessment (EA) for the nine Wetland Management Districts (Districts) is available. The nine Districts include Arrowwood, Audubon, Chase Lake, Crosby, Devils Lake, J. Clark Salyer, Kulm, Lostwood, and Valley City Districts, located throughout the State of North Dakota. This Draft CCP/EA describes how the Service intends to manage these Districts for the next 15 years.

DATES: To ensure consideration, we must receive your written comments on the draft CCP/EA by September 18, 2008.

ADDRESSES: Please provide written comments to John Esperance, Planning Team Leader, Division of Refuge Planning, Branch of Comprehensive Conservation Planning, Mountain-Prairie Region, P.O. Box 25486, Denver Federal Center, Denver, Colorado 80225-0486; via facsimile at 303-236-4792; or electronically to John_Esperance@fws.gov. A copy of the CCP/EA may be obtained by writing to U.S. Fish and Wildlife Service, Division of Refuge Planning, 134 Union Boulevard, Suite 300, Lakewood, Colorado 80228; or by download from http://mountain-prairie.fws.gov/planning.

FOR FURTHER INFORMATION CONTACT: John Esperance, 303-236-4369 (phone); 303-236-4792 (fax); or John_Esperance@fws.gov (e-mail).

SUPPLEMENTARY INFORMATION: The wetland management districts provide oversight for the U.S. Fish and Wildlife Service's small wetlands acquisition programs, that from receipts from Duck Stamp funds, acquire habitat under the provisions of the Migratory Bird Treaty Act. The nine districts manage 1,208 waterfowl production areas (232,509 acres), tens of thousands of conservation easements, and 50 wildlife development areas (18,540 acres) in 34 counties in North Dakota. These district lands (totaling 1,125,100 acres) are part of the National Wildlife Refuge System, a network of lands set aside to conserve fish and wildlife and their habitat.

This draft CCP/EA identifies and evaluates three alternatives for managing the districts for the next 15 years. Alternative A, funding, staff levels, and management activities at the districts would not change. Programs would follow the same direction, emphasis, and intensity as they do at present. The Service would prioritize management of wildlife habitat and associated species at the districts' WPAs into high, medium, and low areas. Only high-priority WPAs receive consistent management. District staffs conduct limited, issue-driven research and limited monitoring and inventory of birds and vegetation.

The district staffs monitor all conservation easements and high-priority easement violations are consistently enforced. On a multiyear rotation among districts, the staffs conduct public use events and workshops with such groups as school districts, youth groups, and conservation groups.

Alternative B, the Service's proposed action, wildlife habitat management would enhance wetlands and uplands, where warranted, on district lands. Management objectives for habitat types would be based on the habitat preferences of groups of target species such as waterfowl, migratory shorebirds, grassland birds, and threatened and endangered species. District staff would focus on high-priority tracts and medium-priority tracts. The district staff would carry out compatible techniques, such as nest boxes for waterfowl, to enhance production of targeted migratory bird populations. The district staff would maintain existing environmental education and visitor services programs, with additional waterfowl emphases. The Service proposes, at a future date, (1) one new administration and visitor center facility each for Audubon and Kulm wetland management districts, and (2) one new visitor contact station each for Lostwood, Valley City, and Arrowwood wetland management districts.

Alternative C, management by the district staff would be more intensive and widespread, targeting native prairie and wetland habitat. As a priority, district staff would seek out restoration projects that expand and return native grasslands to quality native prairie. This alternative would have potential for additional management options that address habitat requirements and needs of specific groups of water-dependent birds such as waterfowl and shorebirds. The staff would develop new environmental education and visitor services programs. The Service proposes, at a future date, (1) one new administration and visitor center facility each for Audubon and Kulm wetland management districts, and (2) one new visitor contact station each for Lostwood, Valley City, and Arrowwood wetland management districts.

Opportunity for public input will be provided by the Service. All public comment information provided voluntarily by mail, by phone, or at meetings (e.g., names, addresses, letters of comment, input recorded during meetings) becomes part of the official public record. If requested under the Freedom of Information Act by a private citizen or organization, the Service may provide copies of such information. The environmental review of this project will be conducted in accordance with the requirements of the National Environmental Policy Act (NEPA) of 1969, as amended (42 U.S.C. 4321 et seq.); NEPA Regulations (40 CFR parts 1500-1508); other appropriate Federal laws and regulations; Executive Order 12996; the National Wildlife Refuge System Improvement Act of 1997; and Service policies and procedures for compliance with those laws and regulations.

Dated: August 13, 2008.
David Lucas,
Acting Regional Director.

[FR Doc. E8-19145 Filed 8-18-08; 8:45 am]

BILLING CODE 4310-55-P